DEPARTMENT OF COMMERCE

National Oceanic and Atmospheric Administration

RIN 0648-XO38

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council), its Dogfish Committee, its Bycatch / Limited Access Committee, its Ecosystems and Ocean Planning Committee, its Annual Catch Limits/Accountability Measures (ACL/AM) Committee, its Squid, Mackerel, Butterfish Committee, and its Executive Committee will hold public meetings.

DATES: Tuesday, April 14, 2009 through Thursday, April 16, 2009.

ADDRESSES: The Sanderling Hotel, 1461 Duck Road, Duck, NC 27949; telephone: 252-261-4111.

Council Address: Mid-Atlantic Fishery Management Council, 300 S. New St., Room 2115, Dover, DE 19904; telephone: 302-674-2331.

FOR FURTHER INFORMATION CONTACT: Daniel T. Furlong, Executive Director, Mid-Atlantic Fishery Management Council; telephone: 302-674-2331 ext. 19.

SUPPLEMENTARY INFORMATION: On Tuesday, April 14 the Mid-Atlantic section of the Joint Dogfish Committee will meet from 10:00 a.m. until 12:00 p.m. The Bycatch /Limited Access Committee will meet from 1:00 p.m. until 2:30 p.m. The Ecosystems and Ocean Planning Committee will meet from 2:30 p.m. until 5:00 p.m. From 7:00 p.m. until 8:30 p.m. there will be a scoping session for the Omnibus Amendment regarding ACL/AM.

On Wednesday, April 15 the ACL / AM Committee will meet from 8:00 a.m. until 9:30 a.m. The Squid, Mackerel, and Butterfish Committee will meet from 9:30 a.m. until 12:00 p.m. The Council will convene at 1:00 p.m. until 5:00 p.m. to conduct its regular business session, receive organizational reports, liaison reports, Executive Director's report, the Status of the Fishery Management Plans (FMP) report, a report on risk considerations, and an update on Amendment 11 to the Squid, Mackerel, and Butterfish FMP.

On Thursday, April 16 the Executive Committee will meet from 8:00 a.m. until 9:00 a.m. The Council will convene at 9:00 a.m. until 1:00 p.m. to receive an update on the Marine Recreational Information Program (MRIP), receive an update on Amendments 17 and 18 to the South Atlantic Fishery Management Council's Snapper Grouper FMP, Committee Reports, and any continuing and/or new business.

Agenda items by day for the Council's Committees and the Council itself are: Tuesday, April 14—the Mid-Atlantic section of the Joint Spiny Dogfish Committee will receive a report on the March meeting of the Joint Dogfish Committee, review and discuss pre-scoping issues related to the development of Amendment 1 to the Dogfish FMP, and develop Committee recommendations for consideration and future action by the Joint Dogfish Committee. The Bycatch / Limited Access Committee will discuss possible modifications to black sea bass pots, and finalize text and lay-out of the bycatch reduction pamphlet. It will also develop a plan of action for distribution of the bycatch reduction pamphlet, and receive a presentation from Environmental Defense Fund representatives regarding British Columbia's fishery management practices and bycatch reduction efforts. The Ecosystems and Ocean Planning Committee will review the DOC Inspector General's Report on NEFSC's use of best science for ecosystems, receive a report from Dr. Jason Link regarding NEFSC prey-predator relationship studies, and review the status of proposed LNG facilities in the Mid-Atlantic Council's jurisdiction off New Jersey. There will be an evening scoping session for the ACL/AM Omnibus Amendment. Wednesday, April 15—The ACL / AM Committee will review the status of action for the Omnibus Amendment, and discuss risk philosophies to be considered by the Council for the Omnibus Amendment.

The Squid, Mackerel, and Butterfish Committee will review the management alternatives addressed in Amendment 11, and review the recommendations of the Fishery Management Action Team (FMAT). The Council will convene for its regular business session to receive various reports including a report on risk considerations. The Council will also review alternatives associated with proposed management measures and if appropriate select preferred alternatives contained in Amendment 11 to the Squid, Mackerel, and Butterfish FMP, and review and adopt the Public Hearing Document (PHD) and associated draft Environmental Impact Statement (DEIS) for Amendment 11. Thursday, April 16 - The Executive Committee will review highlights of the Council Coordination Committee meeting and review discussions and outcomes from the Northeast Regional Coordinating Council (NRCC) meeting. The Council will convene to receive an update on the Marine Recreational Information Program (MRIP), receive an update on Amendments 17 and 18 to the South Atlantic Fishery Management Council's (SAFMC) Snapper Grouper FMP, develop a Council position and provide comments to the SAFMC on proposed actions contained in Amendments 17 and 18, receive Committee Reports and conduct any continuing and/or new business.

Although non-emergency issues not contained in this agenda may come before the Council for discussion, these issues may not be the subject of formal Council action during this meeting. Council action will be restricted to those issues specifically listed in this notice and any issues arising after publication of this notice that require emergency action under Section 305(c) of the Magnuson-Stevens Act, provided the public has been notified of the Council's intent to take final action to address such emergencies.

Special Accommodations

This meeting is physically accessible to people with disabilities. Requests for sign language interpretation or other auxiliary aid should be directed to M. Jan Bryan (302-674-2331 ext 18) at least five days prior to the meeting date.

Dated: March 23, 2009
Tracey L. Thompson,
Acting Director, Office of Sustainable Fisheries, National Marine Fisheries Service.

[FR Doc. E9-6736 Filed 3-25-09; 8:45 am]

BILLING CODE 3510-22-S